DEPARTMENT OF COMMERCE

National Oceanic and Atmospheric Administration

Proposed Information Collection; Comment Request; NOAA Restoration Center Performance Progress Report

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995. The Project Performance Report and Administration Report Forms and Example Report Form Instructions can be reviewed under the Progress Reporting heading at https://www.fisheries.noaa.gov/national/habitat-conservation/resources-noaa-restoration-center-applicants#progress-reporting .

DATES: Written comments must be submitted on or before July 16, 2018.

ADDRESSES: Direct all written comments to Jennifer Jessup, Departmental Paperwork Clearance Officer, Department of Commerce, Room 6616, 14th and Constitution Avenue NW, Washington, DC 20230 (or via the internet at pracomments@doc.gov).

FOR FURTHER INFORMATION CONTACT: Requests for additional information or copies of the information collection instrument and instructions should be directed to Janine Harris, Office of Habitat Conservation, Restoration Center, 1315 East-West Highway, Silver Spring, MD 20910, (301) 427-8635, or janine.harris@noaa.gov.

SUPPLEMENTARY INFORMATION:

I. Abstract

This request is for extension of a currently approved information collection.

The NOAA Restoration Center (NOAA RC) provides technical and financial assistance to identify, develop, implement, and evaluate community-driven habitat restoration projects. Awards are made as grants or cooperative agreements under the authority of the Magnuson-Stevens Fishery Conservation and Management Act of 2006, 16 U.S.C. 1891a and the Fish and Wildlife Coordination Act, 16 U.S.C. 661, as amended by the Reorganization Plan No. 4 of 1970.

The NOAA RC requires specific information on habitat restoration projects that we fund, as part of routine progress reporting. Recipients of NOAA RC funds submit information such as project location, restoration techniques used, species benefited, acres restored, stream miles opened to access for diadromous fish, volunteer participation, and other parameters.

The required information enables NOAA to track, evaluate and report on coastal and marine habitat restoration and demonstrate accountability for federal funds. This information is used to populate a database of NOAA RC-funded habitat restoration. The database, with its robust querying capabilities, is instrumental to provide accurate and timely responses to NOAA, Department of Commerce, Congressional and constituent inquiries. It also facilitates reporting by NOAA on the Government Performance and Results Act “acres restored” performance measure. Grant recipients are required by the NOAA Grants Management Division to submit periodic performance reports and a final report for each award; this collection stipulates the information to be provided in these reports.

There are two progress report forms for simplicity. The Performance Report Form focuses on tracking project implementation, milestones, performance measures, monitoring, and expenditures. The Administrative Form only applies to recipients with an award that will implement multiple projects. It collects information on the administration of the award, the number of projects supported by the award, and award expenditures.

II. Method of Collection

NOAA's preferred method of collection is submission of electronic fillable forms attached to an award file in Grants Online, NOAA's award management system. If the recipient does not have electronic access to submit the form, mailed paper forms will be accepted.

III. Data

OMB Control Number: 0648-0472.

Form Number(s): None.

Type of Review: Regular (extension of currently approved information collection).

Affected Public: Not-for-profit institutions; state, local, or tribal government; business or other for-profit organizations.

Estimated Number of Respondents: 130.

Estimated Time per Response: Performance Interim reports, 4 hours, 30 minutes; final reports, 7 hours, 45 minutes and Administrative Interim reports, 4 hours; final reports, 7 hours.

Estimated Total Annual Burden Hours: 3,475.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: May 11, 2018.
Sarah Brabson,
Management Analyst, Office of the Chief Information Officer.

[FR Doc. 2018-10479 Filed 5-16-18; 8:45 am]

BILLING CODE 3510-22-P